DEPARTMENT OF TRANSPORTATION

Federal Aviation Administration

[Docket No. FAA-2023-0976]

Agency Information Collection Activities: Requests for Comments; Clearance of a Renewed Approval of Information Collection: National Air Tours Safety Standards

AGENCY: Federal Aviation Administration (FAA), DOT.

ACTION: Notice and request for comments.

SUMMARY: In accordance with the Paperwork Reduction Act of 1995, FAA invites public comments about our intention to request the Office of Management and Budget (OMB) approval to renew an information collection. The collection involves requirements in FAA regulations that set safety and oversight rules for a broad variety of sightseeing and commercial air tour flights to improve the overall safety of commercial air tours by requiring all air tours to submit information.

DATES: Written comments should be submitted by June 30, 2023.

ADDRESSES: Please send written comments:

By Electronic Docket: www.regulations.gov (Enter docket number into search field).

By mail: Sandra Ray, Federal Aviation Administration, Voluntary Programs and Rulemaking Section AFS-260, 1187 Thorn Run Road, Suite 200, Coraopolis, PA 15108.

By fax: 412-239-3063.

FOR FURTHER INFORMATION CONTACT: Sandra.ray@faa.gov; phone: 412-329-3088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0717.

Title: National Air Tours Safety Standards.

Form Numbers: None.

Type of Review: Renewal of an information collection.

Background: FAA regulations set safety and oversight rules for a broad variety of sightseeing and commercial air tour flights to improve the overall safety of commercial air tours by requiring all air tour operators to submit information. The FAA uses the information it collects and reviews to ensure compliance and adherence to regulations and, if necessary, take enforcement action on violators of the regulations.

Respondents: Commercial Air Tour Operators.

Frequency: Information is collected on occasion.

Estimated Average Burden per Response: Varies by Response.

Estimated Total Annual Burden: 1,400 Hours.

Issued in Washington, DC, on April 26, 2023.
Sandra L. Ray,
Aviation Safety Inspector, AFS-260.

[FR Doc. 2023-09117 Filed 4-28-23; 8:45 am]

BILLING CODE 4910-13-P